DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Manufacturers' Shipments, Inventories, and Orders Survey.

Form Number(s): M-3(SD), M3-SD(I), M3-1-L1.

Agency Approval Number: 0607-0008.

Type of Request: Revision of a currently approved collection.

Burden: 24,000 hours.

Number of Respondents: 6,000 monthly.

Avg. Hours Per Response: 20 minutes.

Needs and Uses: The Census Bureau conducts the M3 survey, one of the principal Federal economic indicators, to collect monthly manufacturing data from a sample of firms in the manufacturing sector of the economy. Data requested are shipments, new orders, unfilled orders, total inventory, materials and supplies, work-in-process and finished goods. The data are used to analyze short- and long-term trends in the manufacturing sector and as related to other sectors of the economy. The shipments and inventory data are essential inputs into the gross domestic product accounts, while the orders data are direct inputs into the leading economic indicator series. The survey also provides valuable and timely data for economic planning and analysis to business firms, trade associations, research and consulting agencies, and academia on the domestic manufacturing sector.

In this request, the total annual burden hours are revised upward to reflect an increase in the survey panel. The conversion of the survey from the Standard Industrial Classification (SIC) system to the North American Industry Classification System (NAICS) will result in new and reconfigured industry categories, which will require a larger survey panel to ensure sufficient coverage in all industries.

Affected Public: Businesses, large and small, or other for profit organizations.

Frequency: Monthly.

Respondent's Obligation: Voluntary.

Legal Authority: Title 13, U.S.C., Sections 131 and 182.

OMB Desk Officer: Susan Schechter, (202) 395-5103.

Copies of the above information collection proposal can be obtained by calling or writing Linda Engelmeier, DOC Forms Clearance Officer, (202) 482-3272, Department of Commerce, room 5033, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: June 1, 2000.
Madeleine Clayton,
Management Analyst, Office of the Chief Information Officer.

[FR Doc. 00-14222 Filed 6-6-00; 8:45 am]

BILLING CODE 3510-07-P